DEPARTMENT OF COMMERCE

National Oceanic and Atmospheric Administration

Western Pacific Fishery Management Council; Public Meetings

AGENCY: National Marine Fisheries Service (NMFS), National Oceanic and Atmospheric Administration (NOAA), Commerce.

ACTION: Notice of public meetings and hearings.

SUMMARY: This notice provides an update (adds an additional committee to the joint meeting) to a notice that published on April 26, 2016. The Western Pacific Fishery Management Council (Council) will hold a joint meeting of its Hawaii Regional Ecosystem Advisory Committee (REAC), Hawaii Advisory Panel (AP), Fishing Industry Advisory Committee (FIAC) (Hawaii members) and Noncommercial Fishing Advisory Committee (NCFAC) (Hawaii members) and a Hawaii AP meeting to discuss and make recommendations on issues in Hawaii and the Western Pacific region.

DATES: The joint Hawaii REAC, AP, FIAC and NCFAC meeting will be held on Wednesday, May 11, 2016 between 9 a.m. and 12 p.m. The Hawaii AP meeting will be held on Wednesday, May 11, 2016 between 1 p.m. and 4 p.m. For agendas, see SUPPLEMENTARY INFORMATION.

ADDRESSES: The joint Hawaii REAC, AP, FIAC and NCFAC meeting and the Hawaii AP meeting will be held at the Council office, 1164 Bishop St. Honolulu, HI 96813; phone: (808) 522-8220.

FOR FURTHER INFORMATION CONTACT: Kitty M. Simonds, Executive Director, phone: (808) 522-8220.

SUPPLEMENTARY INFORMATION: The original notice published in the Federal Register on April 26, 2016 (81 FR 24565). This notice adds an additional committee to the joint meeting. The notice is being republished in its entirety.

Public comment periods will be provided throughout the agendas. The order in which agenda items are addressed may change. The meetings will run as late as necessary to complete scheduled business.

Agenda for the Joint Hawaii AP, REAC, FIAC and NCFAC Meeting

Wednesday, May 11, 2016, 9 a.m.-12 p.m.

1. Welcome and Introductions

2. Report on Changes to the Pelagic and Archipelagic Annual Fisheries Reports

3. Review of Annual Report Fishery Performance Information

A. Bottomfish

B. Coral Reef

C. Crustaceans

D. Precious Corals

E. Pelagics

4. Review of Annual Report Ecosystem Considerations Information and Data Gaps

A. Habitat

B. Protected Species

C. Human Dimensions

D. Climate Variables

E. Marine Planning

F. Data Integration

5. Report on FEP Implementation Activities

6. Public Comment

7. Discussion and Recommendations

Agenda for the Hawaii AP Meeting

Wednesday, May 11, 2016, 1 p.m.-4 p.m.

1. Welcome and Introductions

2. Hawaii FEP Community Activities

3. Hawaii FEP AP Issues

A. Island Fisheries

B. Pelagic Fisheries

C. Ecosystems and Habitat

D. Indigenous and Fishing Communities

E. Other Issues

6. Public Comment

7. Discussion and Recommendations

8. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 26, 2016.
Jeffrey N. Lonergan,
Acting Deputy Director, Office of Sustainable Fisheries, National Marine Fisheries Service.

[FR Doc. 2016-10163 Filed 4-28-16; 8:45 am]

BILLING CODE 3510-22-P